DEPARTMENT OF HEALTH AND HUMAN SERVICES

Administration for Children and Families

Submission for OMB Review; Generic Clearance for the Comprehensive Child Welfare Information System (CCWIS) Review and Technical Assistance Process (New Collection)

AGENCY: Children's Bureau, Administration for Children and Families, HHS.

ACTION: Request for public comment.

SUMMARY: The Children's Bureau (CB), Administration for Children and Families (ACF), U.S. Department of Health and Human Services (HHS), is proposing to establish a generic clearance to collect information to assess regulatory requirements of title IV-E agencies' Comprehensive Child Welfare Information System (CCWIS) and ensure that the CCWIS is utilized for purposes consistent with the efficient, economical, and effective administration of the title IV-B and IV-E plans. The information collected is intended to be used for review and technical assistance processes.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION:

Description: This initial request is to establish an overarching generic for CCWIS Review and Technical Assistance (TA) information collections and includes six initial TA tools for title IV-E agencies to self-assess their conformity to CCWIS project and design requirements at 45 CFR 1355.52-3. The initial six TA tools include intake, investigation, case management, adoption, foster care and service provider management, and administration.

In the future, ACF will submit under this generic clearance mechanism additional TA tools for title IV-E agencies to self-assess design, data quality, usability, reporting, data exchanges, external systems, eligibility, finance, Child Welfare Contributing Agencies, and other tools, as needed, to assess new child welfare programs and modern system architecture.

The CCWIS requirements at 45 CFR 1355.55 require the review, assessment, and inspection of the planning, design, development, installation, operation, and maintenance of each CCWIS project on a continuing basis. The Advance Planning Document regulations at 45 CFR 95.621 require periodic reviews of state and local agency methods and practices to insure that information systems, including CCWIS, are utilized for purposes consistent with proper and efficient administration.

Respondents: Title IV-E agencies under the Social Security Act.

Annual Burden Estimates
Instrument | Total number of respondents | Total number of responses per respondent | Average burden hours per response | Total burden hours
CCWIS Self-Assessment—Intake | 55 | 1 | 10 | 550
CCWIS Self-Assessment—Investigation | 55 | 1 | 10 | 550
CCWIS Self-Assessment—Case Management | 55 | 1 | 10 | 550
CCWIS Self-Assessment—Adoption | 55 | 1 | 10 | 550
CCWIS Self-Assessment—Foster Care and Service Provider Management | 55 | 1 | 10 | 550
CCWIS Self-Assessment—Administration | 55 | 1 | 10 | 550
Future Tools to be Developed | 55 | 10 | 12 | 6,600

Estimated Total Annual Burden Hours: 9,900.

Authority: 5 U.S.C. 301; 42 U.S.C. 470, 620 et seq., 622(b), 629b(a), 652(b), 654A, 670 et seq., 671(a), 1302, and 1396a(a).

Mary B. Jones,
ACF/OPRE Certifying Officer.

[FR Doc. 2020-28925 Filed 12-30-20; 8:45 am]

BILLING CODE 4184-25-P